ENVIRONMENTAL PROTECTION AGENCY

[FRL-8213-6]

Proposed CERCLA Section 122(h) Administrative Agreement for Recovery of Response Costs for the Peter Cooper Landfill Superfund Site, Village of Gowanda, Cattaraugus County, NY and the Peter Cooper (Markhams) Superfund Site, Town of Dayton, Cattaraugus County, NY

AGENCY: Environmental Protection Agency.

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region II, of a proposed administrative agreement pursuant to Section 122(h) of CERCLA, 42 U.S.C. 9622(h), for recovery of response costs concerning the Peter Cooper Landfill Superfund Site located in the Village of Gowanda, Cattaraugus County, New York (“Gowanda Site”) and the Peter Cooper (Markhams) Superfund Site located in the Town of Dayton, Cattaraugus County, New York (“Markhams Site”). The proposed agreement would require the settling party, Tanyard Partners, Inc., to pay $400,000.00 in reimbursement of EPA's response costs at the Sites ($240,000.00 for the Gowanda Site and $160,000.00 for the Markhams Site). The settlement includes a covenant not to sue the settling party pursuant to Section 107(a) of CERCLA, 42 U.S.C. 9607(a), in exchange for its payments. For thirty (30) days following the date of publication of this notice, EPA will receive written comments relating to the proposed settlement. EPA will consider all comments received and may modify or withdraw its consent to the settlement if comments received disclose facts or considerations that indicate that the proposed amendment is inappropriate, improper or inadequate. EPA's response to any comments received will be available for public inspection at EPA Region II, 290 Broadway, New York, New York 10007-1866.

DATES: Comments must be submitted on or before September 27, 2006.

ADDRESSES: The proposed settlement is available for public inspection at EPA Region II offices at 290 Broadway, New York, New York 10007-1866. Comments should reference the Peter Cooper Landfill Superfund Site and the Peter Cooper (Markhams) Superfund Site located in the Village of Gowanda and the Town of Dayton, respectively, in Cattaraugus County, New York, Index No. CERCLA-02-2006-2018. To request a copy of the proposed settlement agreement, please contact the individual identified below.

FOR FURTHER INFORMATION CONTACT: George A. Shanahan, Assistant Regional Counsel, New York/Caribbean Superfund Branch, Office of Regional Counsel, U.S. Environmental Protection Agency, 17th Floor, 290 Broadway, New York, New York 10007-1866. Telephone: 212-637-3171; e-mail shanahan.george@epa.gov.

Dated: August 18, 2006.
William McCabe,
Acting Director, Emergency and Remedial , Response Division, EPA Region 2.

[FR Doc. 06-7214 Filed 8-25-06; 8:45 am]

BILLING CODE 6560-50-P